DEPARTMENT OF THE INTERIOR

Fish and Wildlife Service

[FWS-R9-IA-2008-N0119; 96300-1671-0000-P5]

Receipt of Applications for Permit

AGENCY: Fish and Wildlife Service, Interior.

ACTION: Notice of receipt of applications for permit.

SUMMARY: The public is invited to comment on the following applications to conduct certain activities with endangered species and/or marine mammals.

DATES: Written data, comments or requests must be received by June 19, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: Dr. M.K. Gonder, University at Albany, SUNY, Albany, NY, PRT-180709

The applicant requests a permit to import hair and fecal samples collected from chimpanzee (Pan troglodytes) sleep nests in the wild in Cameroon for the purpose of scientific research. This notification covers activities to be conducted by the applicant over a 3-year period.

Applicant: James M. Falco, Phoenixville, PA, PRT-179951

The applicant requests a permit to import the sport-hunted trophy of one male bontebok (Damaliscus pygargus pygargus) culled from a captive herd maintained under the management program of the Republic of South Africa, for the purpose of enhancement of the survival of the species.

Applicant: Tyler D. Hutt, Dallas, TX, PRT-162777

The applicant requests a permit to import the sport-hunted trophy of one scimitar-horned oryx (Oryx dammah) culled from a captive herd in the Republic of South Africa, for the purpose of enhancement of the survival of the species.

Applicant: Earl D. Robinson, Rancho Santa Fe, CA, PRT-161751

The applicant requests a permit to import the sport-hunted trophy of one male scimitar-horned oryx (Oryx dammah) culled from a captive herd in the Republic of South Africa, for the purpose of enhancement of the survival of the species.

Applicant: John S. MacDonnell, Arcadia, CA, PRT-181059.

The applicant requests a permit to import the sport-hunted trophy of one female scimitar-horned oryx (Oryx dammah) culled from a captive herd in the Republic of South Africa, for the purpose of enhancement of the survival of the species.

Applicant: Timothy D. Akers, Richmond, KY, PRT-182065

The applicant requests a permit to import the sport-hunted trophy of one male scimitar-horned oryx (Oryx dammah) culled from a captive herd in the Republic of South Africa, for the purpose of enhancement of the survival of the species.

Endangered Marine Mammals

The public is invited to comment on the following applications for a permit to conduct certain activities with endangered marine mammals. The applications were submitted to satisfy requirements of the Endangered Species Act of 1973, as amended (16 U.S.C. 1531 et seq.) and the Marine Mammal Protection Act of 1972, as amended (16 U.S.C. 1361 et seq.), and the regulations governing endangered species (50 CFR part 17) and marine mammals (50 CFR part 18). Written data, comments, or requests for copies of the complete applications or requests for a public hearing on these applications should be submitted to the Director (address above). Anyone requesting a hearing should give specific reasons why a hearing would be appropriate. The holding of such a hearing is at the discretion of the Director.

Applicant: Terrie M. Williams, Center for Ocean Health, University of California, Santa Cruz, CA, PRT-045447

The applicant requests a permit to take up to 24 captive-held southern sea otters (Enhydra lutris nereis) annually for the purpose of scientific research on the physiology of and metabolic demands on southern sea otters related to energetics, diving, and thermoregulation. This notification covers activities to be conducted by the applicant over a five-year period.

Concurrent with the publication of this notice in the Federal Register, the Division of Management Authority is forwarding copies of the above applications to the Marine Mammal Commission and the Committee of Scientific Advisors for their review.

Lisa J. Lierheimer,
Senior Permit Biologist, Branch of Permits, Division of Management Authority.

[FR Doc. E8-11260 Filed 5-19-08; 8:45 am]

BILLING CODE 4310-55-P